DEPARTMENT OF DEFENSE

Office of the Secretary

[Transmittal No. 24-82]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-82, Policy Justification, and Sensitivity of Technology.

Dated: December 9, 2025.
Stephanie J. Bost,
Alternate OSD Federal Register Liaison Officer, Department of Defense.

BILLING CODE 6001-FR-P

BILLING CODE 6001-FR-C

Transmittal No. 24-82

Notice of Proposed Issuance of Letter of Offer Pursuant to Section 36(b)(1) of the Arms Export Control Act, as amended

(i) Prospective Purchaser: Government of the Netherlands

(ii) Total Estimated Value:

Major Defense Equipment * | $0
Other | $1.42
TOTAL | $1.42 billion

(iii) Description and Quantity or Quantities of Articles or Services under Consideration for Purchase:

Major Defense Equipment (MDE):

None

Non-Major Defense Equipment:

The following non-MDE items will be included: AN/PRC-117G radios; AN/PRC-152A radios; AN/PRC-160 radios; AN/PRC-163 radios; AN/PRC-167 radios; tactical key loaders; network encryptors; Government and contractor technical assistance; spares; and other related elements of logistics and program support.

(iv) Military Department: Army (NE-B-YBW)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: October 16, 2024

* as defined in Section 47(6) of the Arms Export Control Act.

POLICY JUSTIFICATION

The Netherlands—Radio Equipment

The Government of the Netherlands has requested to buy the following non-Major Defense Equipment items: AN/PRC-117G radios; AN/PRC-152A radios; AN/PRC-160 radios; AN/PRC-163 radios; AN/PRC-167 radios; tactical key loaders; network encryptors; Government and contractor technical assistance; spares; and other related elements of logistics and program support. The estimated total cost is $1.42 billion.

This proposed sale will support the foreign policy goals and national security objectives of the United States (U.S.) by improving the security of a NATO Ally that is a force for political stability and economic progress in Europe.

The proposed sale will improve the Netherlands' military, secure communications to improve interoperability with other NATO military forces and meet current and future enemy threats. The Netherlands will use the enhanced capability to strengthen its homeland defense, deter regional threats, and provide direct support to coalition and security cooperation efforts. The Netherlands will have no difficulty absorbing this equipment into its armed forces.

The proposed sale of this equipment and support will not alter the basic military balance in the region.

The principal contractor will be L3Harris Global Communications, Inc., located in Rochester, NY. The purchaser typically requests offsets. Any offset agreement will be defined in negotiations between the purchaser and the principal contractor. Products and services of TrellisWare Technologies, Inc., located in San Diego, CA, and ViaSat, Inc., located in Carlsbad, CA are included in the Foreign Military Sale.

Implementation of this proposed sale will not require the assignment of any additional U.S. Government representatives to the Netherlands.

There will be no adverse impact on U.S. defense readiness as a result of this proposed sale.

Transmittal No. 24-82

Notice of Proposed Issuance of Letter of Offer Pursuant to Section 36(b)(1) of the Arms Export Control Act

Annex

Item No. vii

(vii) Sensitivity of Technology:

1. The AN/PRC-117G radios, AN/PRC-152A radios, AN/PRC-160 radios, AN/PRC-163 radios, AN/PRC-167 radios, and radio accessories are used to transmit and receive voice and data information using Type-1 encryption.

2. The highest level of classification of defense articles, components, and services included in this potential sale is UNCLASSIFIED.

3. If a technologically advanced adversary were to obtain knowledge of the specific hardware and software elements, the information could be used to develop countermeasures that might reduce weapon system effectiveness or be used in the development of a system with similar or advanced capabilities.

4. A determination has been made that the Government of the Netherlands can provide substantially the same degree of protection for the sensitive technology being released as the U.S. Government. This sale is necessary in furtherance of the U.S. foreign policy and national security objectives outlined in the Policy Justification.

5. All defense articles and services listed in this transmittal have been authorized for release and export to the Government of the Netherlands.

[FR Doc. 2025-22599 Filed 12-11-25; 8:45 am]

BILLING CODE 6001-FR-P